COMMODITY FUTURES TRADING COMMISSION

Agency Information Collection Activities: Notice of Intent To Renew Collection 3038-0023, Commodity Pool Operators and Commodity Trading Advisors: Amendments to Compliance Obligations

AGENCY: Commodity Futures Trading Commission.

ACTION: Notice.

SUMMARY: The Commodity Futures Trading Commission (“Commission” or “CFTC”) is announcing an opportunity for public comment on the proposed collection of certain information by the agency. Under the Paperwork Reduction Act (“PRA”), Federal agencies are required to publish notice in the Federal Register concerning each proposed collection of information, including each proposed extension of an existing collection of information, and to allow 60 days for public comment. This notice solicits comments on the continued registration requirements relating to commodity pool operators and commodity trading advisors.

DATES: Comments must be submitted on or before February 17, 2015.

ADDRESSES: You may submit comments, identified by “Commodity Pool Operators and Commodity Trading Advisors: Amendments to Compliance Obligations” by any of the following methods:

• The Agency's Web site, at http://comments.cftc.gov. Follow the instructions for submitting comments through the Web site.

• Mail: Christopher Kirkpatrick, Secretary of the Commission, Commodity Futures Trading Commission, Three Lafayette Centre, 1155 21st Street NW., Washington, DC 20581.

• Hand Delivery/Courier: Same as Mail, above.

• Federal eRulemaking Portal: http://www.regulations.gov. Follow the instructions for submitting comments through the Portal.

Please submit your comments using only one method.

FOR FURTHER INFORMATION CONTACT: Amanda Olear, Associate Director, Division of Swap Dealer and Intermediary Oversight, Commodity Futures Trading Commission, 1155 21st Street NW., Washington, DC 20581; (202) 418-5283; email: aolear@cftc.gov, and refer to OMB Control No. 3038-0023.

SUPPLEMENTARY INFORMATION: Under the PRA, Federal agencies must obtain approval from the Office of Management and Budget (“OMB”) for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed collection of information before submitting the collection to OMB for approval. To comply with this requirement, the CFTC is publishing notice of the proposed collection of information listed below.

Title: “Commodity Pool Operators and Commodity Trading Advisors: Amendments to Compliance Obligations,” (OMB Control No. 3038-0023). This is a request for extension of a currently approved information collection.

Abstract: Pursuant to the Commodity Exchange Act, as amended by the Dodd-Frank Wall Street Reform and Consumer Protection Act (“Dodd-Frank Act”), Public Law 111-203, 124 Stat. 1376 (2010), the CFTC promulgated rules and forms relating to registration with the Commission applicable to intermediaries, and employees and principals thereof, operating in the futures, options, swaps, and retail forex markets. There were no new requirements imposed; however, due to amendments to the Commodity Exchange Act made by the Dodd-Frank Act, there was an increase in registrants in certain registration categories.

With respect to the collection of information, the CFTC invites comments on:

• Whether the proposed collection of information is necessary for the proper performance of the functions of the Commission, including whether the information will have a practical use;

• The accuracy of the Commission's estimate of the burden of the proposed collection of information, including the validity of the methodology and assumptions used;

• Ways to enhance the quality, usefulness, and clarity of the information to be collected; and

• Ways to minimize the burden of collection of information on those who are to respond, including through the use of appropriate automated electronic, mechanical, or other technological collection techniques or other forms of information technology; e.g., permitting electronic submission of responses.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established in § 145.9 of the Commission's regulations.¹

¹ 17 CFR 145.9.

The Commission reserves the right, but shall have no obligation, to review, pre-screen, filter, redact, refuse or remove any or all of your submission from http://www.cftc.gov that it may deem to be inappropriate for publication, such as obscene language. All submissions that have been redacted or removed that contain comments on the merits of the ICR will be retained in the public comment file and will be considered as required under the Administrative Procedure Act and other applicable laws, and may be accessible under the Freedom of Information Act.

Burden Statement: The respondent burden for this collection is estimated to be 0.09 hours per response.

Respondents/Affected Entities: Futures Commission Merchants, Introducing Brokers, Commodity Pool Operators, Commodity Trading Advisors, Associated Persons, Retail Foreign Exchange Dealers.

Estimated number of respondents: 77,857.

Estimated total annual burden on respondents: 7,029.8 hours.

Frequency of collection: Periodically.

Authority: 44 U.S.C. 3501 et seq.

Dated: December 11, 2014.
Christopher J. Kirkpatrick,
Secretary of the Commission.

[FR Doc. 2014-29442 Filed 12-15-14; 8:45 am]

BILLING CODE 6351-01-P